DEPARTMENT OF COMMERCE

National Oceanic and Atmospheric Administration

[RTID 0648-XA277]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a two-day public virtual meeting to address the items contained in the tentative agenda included in the SUPPLEMENTARY INFORMATION.

DATES: The public virtual meeting will be held on July 27, 2020, from 10 a.m. to 5 p.m., and July 28, 2020, from 10 a.m. to 5 p.m. All meetings will be at Eastern Standard Time.

ADDRESSES: You may join the SSC public virtual meeting (via GoToMeeting) from a computer, tablet or smartphone by entering the following address: https://www.gotomeet.me/GracielaGarciaMoliner/ssc-virtual-meeting-july-27-28-2020. You can also dial in using your phone. United States: +1 (224) 501-3412, Access Code: 366-636-421. Join from a video-conferencing room or system. Dial in or type: 67.217.95.2 or inroomlink.goto.com. Meeting ID: 366 636 421. Or dial directly: 366636421@67.217.95.2 or 67.217.95.2##366636421. If you are new to GoToMeeting you can get the app now and be ready when the meeting starts: https://global.gotomeeting.com/install/366636421.

In case there are problems with GoToMeeting, and we cannot reconnect via GoToMeeting, the meeting will continue via Google Meet. Join with Google Meet: https://meet.google.com/iyv-weuo-jth.

FOR FURTHER INFORMATION CONTACT: Dr. Graciela García-Moliner, Caribbean Fishery Management Council, 270 Muñoz Rivera Avenue, Suite 401, San Juan, Puerto Rico 00918-1903, telephone: (787) 403-8337.

SUPPLEMENTARY INFORMATION: The following items included in the tentative agenda will be discussed:

July 27, 2020, 10 a.m.-10:45 a.m.

—Call to Order

—Adoption of Agenda

—Overview SSC Ecosystem Conceptual Model and Sub-Models

July 27, 2020, 10:45 a.m.-12 p.m.

—Finish the Competing Use of Resources Sub-Model

July 27, 2020, 12 p.m.-1:15 p.m.

—Lunch Break

July 27, 2020, 1:15 p.m.-3 p.m.

—Review all Sub-Models

July 27, 2020, 3 p.m.-3:15 p.m.

—Break

July 27, 2020, 3:15 p.m.-5 p.m.

—What is Missing?

—How to Address Gaps

July 28, 2020, 10 a.m.-12 p.m.

—Finalize Sub-Models

—Review Intra-connections

July 28, 2020, 12 p.m.-1 p.m.

—Lunch Break

July 28, 2020, 1 p.m.-5 p.m.

—Finalize Sub-Models

—Review Interconnections

—Overview Interconnections

—Other Business

—Adjourn

The order of business may be adjusted as necessary to accommodate the completion of agenda items. The meeting will begin on July 27, 2020, at 10 a.m. EST, and will end on July 28, 2020, at 5 p.m. EST. Other than the start time, interested parties should be aware that discussions may start earlier or later than indicated, at the discretion of the Chair. In addition, the meeting may be completed prior to the date established in this notice.

Special Accommodations

Simultaneous interpretation will be provided. Se proveerá interpretación en español. Para interpretación en español puede marcar el siguiente número para entrar en la reunión:

US/Canada: llame al +1-888-947-3988, cuando el sistema conteste, entrar el número 1*999996#.

For English interpretation please dial to enter the meeting:

US/Canadá: call +1-888-947-3988, when the system answers, please enter the number 2*999996#.

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: July 7, 2020.
Tracey L. Thompson,
Acting Deputy Director, Office of Sustainable Fisheries, National Marine Fisheries Service.

[FR Doc. 2020-14957 Filed 7-10-20; 8:45 am]

BILLING CODE 3510-22-P